NUCLEAR REGULATORY COMMISSION

[Docket No. 52-017-COL; ASLBP No. 08-863-01-COL-BD01]

Dominion Virginia Power; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

Dominion Virginia Power

(North Anna Nuclear Power Station Unit 3)

This proceeding concerns (1) a Petition to Intervene and Request for Hearing submitted by the Blue Ridge Environmental Defense League and the People's Alliance for Clean Energy, and (2) a Request of the North Carolina Utilities Commission for an Opportunity to Participate in any Hearing, both of which were submitted in response to a March 10, 2008, Notice of Hearing and Opportunity to Petition for Leave to Intervene on a Combined License for North Anna Unit 3 (73 FR 12,760), and an April 18, 2008, Supplement to Notice of Hearing and Opportunity to Petition for Leave to Intervene on a Combined License for North Anna Unit 3 (73 FR 21,162). The Petition to Intervene and Request for Hearing challenges the application filed by Dominion Virginia Power pursuant to Subpart C of 10 CFR Part 52 for a combined license for North Anna Unit 3, which would be located at the North Anna Power Station in Louisa County, Virginia.

The Board is comprised of the following administrative judges:

Ronald M. Spritzer, Chair, Atomic Safety and Licensing Board Panel, U.S. Nuclear Regulatory Commission, Washington, DC 20555-0001

Dr. Richard F. Cole, Atomic Safety and Licensing Board Panel, U.S. Nuclear Regulatory Commission, Washington, DC 20555-0001

Dr. Alice C. Mignerey, Atomic Safety and Licensing Board Panel, U.S. Nuclear Regulatory Commission, Washington, DC 20555-0001

Additionally, during the contention admissibility phase of this proceeding, Administrative Judge Alan S. Rosenthal shall function as the Board's Special Assistant pursuant to 10 CFR 2.322(a)(3).

All correspondence, documents, and other materials shall be filed in accordance with the NRC E-Filing rule, which the NRC promulgated in August 2007 (72 FR 49,139).

Issued at Rockville, Maryland, this 15th day of May 2008.
E. Roy Hawkens,
Chief Administrative Judge, Atomic Safety and Licensing Board Panel.

[FR Doc. E8-11339 Filed 5-20-08; 8:45 am]

BILLING CODE 7590-01-P